DEPARTMENT OF JUSTICE

Drug Enforcement Administration

Manufacturer of Controlled Substances; Notice of Application

Pursuant to Section 1301.33(a) of Title 21 of the Code of Federal Regulations (CFR), this is notice that on October 24, 2002, Noramco, Inc. (formerly Noramco of Delaware, Inc.), 500 Swedes Landing Road, Wilmington, Delaware 19801, made application by renewal and on December 4 and 26, 2002, by letters to the Drug Enforcement Administration (DEA) for registration as a bulk manufacturer of the basic classes of controlled substances listed below:

Drug | Schedule
Morphine-N-Oxide | I
Codeine-N-Oxide (9053) | I
Codeine (9050) | II
Oxycodone (9143) | II
Hydrocodone (9193) | II
Morphine (9300) | II
Thebaine (9333) | II
Oxymorphone (9652) | II

The firm plans to manufacture the listed controlled substances for distribution to its customers as bulk products.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: Federal Register Representative, Office of Chief Counsel (CCD) and must be filed no later than August 11, 2003.

Dated: May 16, 2003.
Laura M. Nagel,
Deputy Assistant Administrator, Office of Diversion Control, Drug Enforcement Administration.

[FR Doc. 03-14735 Filed 6-10-03; 8:45 am]

BILLING CODE 4410-09-M